DEPARTMENT OF ENERGY

Notice of Availability of the Draft Environmental Impact Statement for the Mountaineer Commercial Scale Carbon Capture and Storage Project, Mason County, WV

AGENCY: U.S. Department of Energy.

ACTION: Notice of Availability and Public Hearing.

SUMMARY: The U.S. Department of Energy (DOE) announces the availability of the Draft Environmental Impact Statement for the Mountaineer Commercial Scale Carbon Capture and Storage Project (DOE/EIS-0445D) for public review and comment, as well as the date, location and time for a public hearing. The draft environmental impact statement (EIS) analyzes the potential environmental impacts of a project proposed by American Electric Power (AEP) Service Corporation, which was selected by DOE to receive financial assistance under the Clean Coal Power Initiative (CCPI) program. DOE's Proposed Action is to provide cost-shared funding to AEP under the CCPI. DOE proposes to provide up to $334 million of the project cost to support the construction and operation of AEP's Mountaineer Commercial Scale Carbon Capture and Storage (CCS) Project (Mountaineer CCS II Project). AEP's proposed project would construct a commercial-scale CCS system at its Mountaineer Power Plant (a 1,300-megawatt [MW] coal-fired power plant) and other AEP-owned properties in Mason County, West Virginia, near the town of New Haven. The project would capture carbon dioxide (CO2) from the existing pulverized coal-fired power plant, transport the captured CO2 by pipeline to well locations, and inject it into deep saline geologic formations for permanent geologic storage.

DATES: DOE invites the public to comment on the Draft EIS during the public comment period, which ends April 18, 2011. DOE will consider all comments postmarked or received during the comment period in preparing the Final EIS, and will consider late comments to the extent practicable. In addition to receiving comments in writing and by e-mail [See ADDRESSES], DOE will conduct a public hearing at which government agencies, private-sector organizations, Native American Tribes and individuals are invited to present oral and written comments on the Draft EIS. The public hearing will be held at the New Haven Elementary School at 138 Mill Street in New Haven, West Virginia, on March 30, 2011. Oral comments will be heard during the formal portion of the public hearing beginning at 7 p.m. The public is also invited to an informal session to learn more about the project and DOE's Proposed Action at the same location beginning at 6 p.m. Various displays and other information about DOE's Proposed Action and AEP's Mountaineer CCS II Project will be available. Representatives from DOE and AEP will discuss the proposed project, the CCPI program, and the EIS process at the informal session.

ADDRESSES: Requests for information about the Draft EIS, requests to receive paper or electronic copies of it or to provide comments on the Draft EIS should be directed to: Mr. Mark W. Lusk, NEPA Document Manager, U.S. Department of Energy, National Energy Technology Laboratory, 3610 Collins Ferry Road, M/S B07, P.O. Box 880, Morgantown, WV 26507-0880. Requests or comments can also be made by electronic mail at Mountaineer.EIS0445@netl.doe.gov; by telephone (412) 386-7435, toll-free 1-877-812-1569; or by fax (304) 285-4403.

The Draft EIS is available on DOE's NEPA Web page at: http://nepa.energy.gov/DOE_NEPA_documents.htm; and on the National Energy Technology Laboratory's Web page at: http://www.netl.doe.gov/publications/others/nepa/index.html. Copies of the Draft EIS will also be available at the locations listed in the SUPPLEMENTARY INFORMATION section of this Notice. Written comments on the Draft EIS should be marked “AEP Mountaineer CCS Project” and sent to Mark W. Lusk, NEPA Document Manager, by one of the methods listed above. Oral comments on the Draft EIS will be accepted by telephone at the numbers listed above, or during the public hearing scheduled for the date and location provided in the DATES section of this Notice.

FOR FURTHER INFORMATION CONTACT: For further information about this project or the Draft EIS, please contact Mr. Mark W. Lusk (see ADDRESSES). For general information on the DOE NEPA process, please contact Ms. Carol M. Borgstrom, Director, Office of NEPA Policy and Compliance (GC-54), U.S. Department of Energy, 1000 Independence Avenue, SW., Washington, DC 20585; telephone (202) 586-4600; fax (202) 586-7031; or leave a toll-free message (1-800-472-2756).

SUPPLEMENTARY INFORMATION: DOE's Proposed Action is to provide $334 million in cost-shared financial assistance to AEP to support the construction and operation of AEP's Mountaineer CCS II Project. This financial assistance would constitute about 50 percent of the estimated total project cost during the 46-month demonstration period. Through a cooperative agreement with DOE, AEP would construct a CO2 capture facility using Alstom's chilled ammonia process (CAP) at the Mountaineer Plant. Alstom's CAP is a proprietary process for removing CO2 from combustion flue gas. The capture facility would be located within the boundaries of the existing Mountaineer Plant and would occupy approximately 11.5 acres. The capture facility would process a slipstream of the plant's flue gas, equivalent in quantity to the emissions from a 235-MW power plant. Each year, approximately 1.5 million metric tons of CO2 would be captured, treated, and compressed into a highly concentrated form suitable for geologic storage. The processed CO2 would be transported by pipeline (primarily underground) to injection wells on AEP properties located within approximately 12 miles of the Mountaineer Plant. The captured CO2 would be injected into deep saline formations for permanent storage, approximately 1.5 miles below ground.

Consistent with DOE's objectives in CCPI Round 3, the Mountaineer CCS Project would be designed to:

• Remove approximately 90 percent of the CO2 from the 235-MW slipstream;

• Demonstrate a commercial-scale deployment of the CAP for CO2 capture; and

• Demonstrate the injection, permanent geologic storage, and monitoring of CO2 in deep underground saline formations.

Existing infrastructure (e.g., roadways, utilities) at the Mountaineer Plant would be used to the extent possible. However, upgrades to, and construction of, additional infrastructure may be required. Major new equipment would include absorbers, regenerators, strippers, pumps, heat exchangers, compressors, and a refrigeration system. In addition, the CO2 capture system would include reagent and refrigerant unloading equipment, water-handling equipment, a control room, maintenance and administrative facilities, and a laboratory. All of these would be located at the Mountaineer Plant. Carbon dioxide injection wells and pipelines would be located along existing rights-of-way (ROWs) to the extent possible and on other AEP properties in the area.

DOE prepared this Draft EIS in accordance with the National Environmental Policy Act of 1969 (NEPA) (42 U.S.C. 4321 et seq.), the Council on Environmental Quality's regulations that implement the procedural provisions of NEPA (40 CFR Parts 1500-1508), and DOE's procedures implementing NEPA (10 CFR Part 1021). Projects considered by DOE for possible CCPI funding originate as a private party's (e.g., electric power industry) application submitted to DOE in response to requirements specified in CCPI funding opportunity announcements. DOE is limited to considering the application as proposed by the private party; however, DOE may require mitigation measures to reduce a project's potential impacts. Consequently, DOE's consideration of reasonable alternatives is limited to the technically acceptable applications and the No Action Alternative for each selected project.

Under the No Action Alternative, DOE would not provide cost-shared funding for the project beyond that required to complete the NEPA process. Although AEP could still elect to construct and operate the proposed project, without DOE funding the project would likely be canceled. Therefore, for purposes of analysis in the Draft EIS, the No Action Alternative is assumed to be equivalent to a “no build” alternative, meaning that environmental conditions would remain as they are (no new construction, resource utilization, emissions, discharges, or wastes generated). The No Action Alternative would not contribute to the goal of the CCPI program, which is to accelerate commercial deployment of advanced technologies that provide the United States with clean, reliable, and affordable energy.

The Draft EIS analyzes the environmental consequences that may result from the Proposed Action, including options for pipeline routes and injection well sites, and the No Action Alternative. Potential impacts identified during the scoping process and analyzed in the Draft EIS relate to the following: air quality and climate; greenhouse gases; geology; physiography and soils; groundwater; surface water; wetlands and floodplains; biological resources; cultural resources; land use and aesthetics; traffic and transportation; noise; materials and waste management; human health and safety; utilities; community services; socioeconomics; and environmental justice.

Copies of the Draft EIS have been distributed to: Members of Congress; Native American Tribal governments; Federal, State, and local officials; and agencies, organizations and individuals who may be interested or affected. Copies of the Draft EIS are available for review at the New Haven Public Library, 106 Main Street, New Haven, WV 25265, and at the Meigs County Library District, 216 West Main Street, Pomeroy, OH 45769. The Draft EIS will also be available on the Internet at: http://nepa.energy.gov/DOE_NEPA_documents.htm; or http://www.netl.doe.gov/publications/others/nepa/index.html.

Issued in Washington, DC on March 8, 2011.
Mark J. Matarrese,
Director, Office of Environment, Security, Safety & Health, Office of Fossil Energy.

[FR Doc. 2011-5694 Filed 3-10-11; 8:45 am]

BILLING CODE 6450-01-P